COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add service(s) to the Procurement List that will be furnished by nonprofit agencies employing persons who are blind or have other severe disabilities, and deletes product(s) and service(s) previously furnished by such agencies.

DATES: Comments must be received on or before: May 18, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add this services requirement to the Procurement List as a mandatory purchase only for contracting activity at the location listed below with the proposed qualified nonprofit agency as the authorized source of supply. Prior to adding the service to the Procurement List, the Committee will consider other pertinent information, including information from Government personnel and relevant comments from interested parties regarding the Committee's intent to geographically limit this services requirement.

Service(s)

Service Type: Building Management Services

Mandatory for: US Army, MEDCoE, 32d Brigade Medical, Bldgs 1002, 3312, and 3314, JBSA Fort, Sam Houston, TX

Authorized Source of Supply: ServiceSource, Inc., Oakton, VA

Contracting Activity: Dept of the Air Force, FA3016 502 Cons Cl, JBSA

Deletions

The following product(s) and service(s) are proposed for deletion from the Procurement List:

Product(s)

NSN(s)—Product Name(s):

MR11130—Carving Kit, Pumpkin, Assorted Colors

MR 11508—Cat Teaser

MR 11510—Toy, Pet, Squeaky

MR 13050—Iced Tea Tumbler, 16 Ounces, Green

MR 13051—Iced Tea Tumbler, 16 Ounces, Pink

MR 13052—Bento Box, 1 Compartment

MR 13053—Bento Box, 2 Compartments

MR 13054—Bento Box, 3 Compartments

MR 13055—Bento Box, Round, 2 Compartments

MR 13064—Set, Pan, Spring Form, 3 Piece

MR 13105—Muffin Pan, Mini, 24-Cup

MR 13087—Set, Cookie Sheet, 3 Piece

MR 13501—Wing Corkscrew

Authorized Source of Supply: Winston-Salem Industries for the Blind, Inc, Winston-Salem, NC

Contracting Activity: Military Resale-Defense Commissary Agency

NSN(s)—Product Name(s):

8440-00-290-0567—Belt, Trousers, Type XV, Size 33 (36″)

8440-00-290-0568—Belt, Trousers, Size 39″ (42″)

8440-00-412-2312—Belt, Trousers, Type VII, Black, 39

8440-00-412-2326—Belt, Trousers, Type VIII, White, 33

8440-00-412-2341—Belt, Trousers, Type VIII, White, 39

8440-00-577-4177—Belt, Trousers, Type III, Khaki, 39

8440-00-634-5632—Belt, Trousers, Type III, Khaki, 33

8440-00-270-0541—Belt, Trousers, Type V, White, 33

8440-00-270-0542—Belt, Trousers, Type V, White, 39

Authorized Source of Supply: Travis Association for the Blind, Austin, TX

Contracting Activity: DLA TROOP SUPPORT, PHILADELPHIA, PA

NSN(s)—Product Name(s):

MR 532—Cutlery, Heavy Duty

Authorized Source of Supply: LC Industries, Inc., Durham, NC

Contracting Activity: NEXCOM-Navy Exchange Service Command, Virginia Beach, VA

NSN(s)—Product Name(s):

MR 543—Flatware, Plastic, Seasonal, Red and Blue, Includes Shipper 10543

MR 586—Dual Action Dish Wand with Brush

MR 1055—Mop, Cellulose Sponge, Includes Shipper 11055

Authorized Source of Supply: LC Industries, Inc., Durham, NC

Contracting Activity: Military Resale-Defense Commissary Agency

NSN(s)—Product Name(s):

7930-01-621-6646—Detergent, Dishwashing, EPA Certified, BX/4 Bottles

7930-01-694-9775—Cleaner, Degreaser, Multipurpose, EPA Certified

7930-01-618-2179—Rinse Additive, Dishwasher, EPA Certified, 2 Bottles

7930-01-694-9778—Pre-Soak, Flatware, EPA Certified

7930-01-695-1910—Cleaner, Floor, Environmentally Safe

7930-01-671-7469—Dish Soap, Manual, EPA Certified

6850-01-695-0086—De-Limer/De-Scaler, Dishwasher, EPA Certified

Authorized Source of Supply: Goodwill Vision Enterprises, Rochester, NY

Contracting Activity: GSA/FSS GREATER SOUTHWEST ACQUISITI, FORT WORTH, TX

NSN(s)—Product Name(s):

7510-01-683-3781—Toner Cartridge, LaserJet, Remanufactured, HP 78X, Black, Page Yield 3000

Authorized Source of Supply: Alabama Industries for the Blind, Talladega, AL

Contracting Activity: GSA/FAS ADMIN SVCS ACQUISITION BR(2, NEW YORK, NY

Service(s)

Service Type: Medical Transcription

Mandatory for: Department of Veterans Affairs, Durham VA Medical Center, Durham, NC

Authorized Source of Supply: Lighthouse for the Blind of Houston, Houston, TX

Contracting Activity: VETERANS AFFAIRS, DEPARTMENT OF, 246-NETWORK CONTRACTING OFFICE 6

Service Type: Eyewear Prescription Service

Mandatory for: Department of Veterans Affairs: Veteran Integrated Services Network 7(Alabama, Georgia and South Carolina)

Authorized Source of Supply: Winston-Salem Industries for the Blind, Inc, Winston-Salem, NC

Contracting Activity: VETERANS AFFAIRS, DEPARTMENT OF, NAC

Service Type: Eyewear Prescription Service

Mandatory for: VA Outpatient Clinic, Port Richey, FL

Authorized Source of Supply: Winston-Salem Industries for the Blind, Inc, Winston-Salem, NC

Contracting Activity: VETERANS AFFAIRS, DEPARTMENT OF, NAC

Service Type: Eyewear Prescription Service

Mandatory for: Department of Veterans Affairs Medical Center: 6439 Garners Ferry Road, Columbia, SC

Authorized Source of Supply: Winston-Salem Industries for the Blind, Inc, Winston-Salem, NC

Contracting Activity: VETERANS AFFAIRS, DEPARTMENT OF, NAC

Service Type: Eyewear Prescription Service

Mandatory for: Department of Veterans Affairs Medical Center Outpatient Clinic: 3510 Augusta Road, Greenville, SC

Authorized Source of Supply: Winston-Salem Industries for the Blind, Inc, Winston-Salem, NC

Contracting Activity: VETERANS AFFAIRS, DEPARTMENT OF, NAC

Michael R. Jurkowski,
Director, Business Operations.

[FR Doc. 2025-06714 Filed 4-17-25; 8:45 am]

BILLING CODE 6353-01-P